DEPARTMENT OF THE TREASURY

Internal Revenue Service

26 CFR Part 301

[REG-121109-00]

RIN 1545-AY52

Disclosure of Return Information to the Bureau of the Census; Correction

AGENCY: Internal Revenue Service (IRS), Treasury.

ACTION: Correction to notice of proposed rulemaking by cross-reference to temporary regulations.

SUMMARY: This document contains corrections to REG-121109-00 which was published in the Federal Register on Tuesday, February 13, 2001 (66 FR 9991). These regulations relate to additions to the list of items of information disclosed to the Bureau of the Census for use in the Longitudinal Employer-Household Dynamics (LEHD) project and the Survey of Income and Program Participation (SIPP) project.

FOR FURTHER INFORMATION CONTACT: Stuart Murray, (202) 622-4580 (not a toll-free number).

SUPPLEMENTARY INFORMATION:

Background

The notice of proposed rulemaking that is the subject of these corrections is under section 6103 of the Internal Revenue Code.

Need for Correction

As published, REG-121109-00 contains errors which may prove to be misleading and are in need of clarification.

Correction of Publication

Accordingly, the publication of the notice of proposed rulemaking (REG-121109-00), which was the subject of FR Doc. 01-1990, is corrected as follows:

§ 301.6103(j)(1)-1 [Corrected]

1. On page 9992, column 3, § 301.6103(j)(1)-1(b)(5)(iii), (iv) and (v), line 4 , the language “§ 301.6103(j)(1)-T(b)(5)(iii), (iv), and (v)” is corrected to read “§ 301.6103(j)(1)-1T(b)(5)(iii), (iv), and (v)”.

2. On page 9992, column 3, § 301.6103(j)(1)-1(e), line 3, the language “§ 301.6103(j)(1)-T(e) published” is corrected to read “§ 301.6103(j)(1)-1T(e) published”.

Cynthia Grigsby,
Chief, Regulations Unit, Office of Special Counsel (Modernization & Strategic Planning).

[FR Doc. 01-7166 Filed 3-22-01; 8:45 am]

BILLING CODE 4830-01-P